DEPARTMENT OF HEALTH AND HUMAN SERVICES

Centers for Disease Control and Prevention

National Center for Health Statistics, Meeting of the ICD-10 Coordination and Maintenance Committee

AGENCY: Centers for Disease Control and Prevention (CDC), Department of Health and Human Services (HHS).

ACTION: Notice of meeting.

SUMMARY: The Centers for Disease Control and Prevention (CDC), National Center for Health Statistics (NCHS), Classifications and Public Health Data Standards Staff, announces the following meeting of the ICD-10 Coordination and Maintenance (C&M) Committee. This meeting is open to the public, limited only by the number of audio lines available. Online registration is required.

DATES: The meeting will be held on March 17, 2026, from 9 a.m. to 5 p.m., EDT, and March 18, 2026, from 9 a.m. to 5 p.m., EDT.

ADDRESSES: This is a virtual meeting. Register in advance for this webinar: https://cms.zoomgov.com/webinar/register/WN_LdBl5sC-T0mxdg_Lm6O6jg. After registering, you will receive a confirmation email containing information about joining the webinar. Further information will be provided on each of the respective web pages when it becomes available.

For CDC, NCHS: https://www.cdc.gov/nchs/icd/icd-10-maintenance/meetings.html. For the Centers for Medicare & Medicaid Services, Department of Health and Human Services: https://www.cms.gov/medicare/coding-billing/icd-10-codes/icd-10-coordination-maintenance-committee-materials.

FOR FURTHER INFORMATION CONTACT: Traci Ramirez, Medical Classification Specialist, National Center for Health Statistics, Centers for Disease Control and Prevention, 3311 Toledo Road, Hyattsville, Maryland 20782-2064. Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification (CM) and ICD-10 Procedure Coding System (PCS).

Matters to be Considered: The tentative agenda will include discussions on the ICD-10-CM and ICD-10-PCS topics listed below. Agenda items are subject to change as priorities dictate. Please refer to the posted agenda for updates one month prior to the meeting.

ICD-10-PCS Topics:

1. Insertion of Posterior Cervico-Thoracic Spinal Stabilization System

2. Introduction of Recombinant Human Bone Morphogenetic Protein-2 with Collagen Scaffold

3. Endovascular Restriction of Thoracic Aorta

4. Transcatheter Mitral Valve Replacement with a Balloon-Expandable Device via Transseptal Access

5. Open Insertion of a Neurostimulator Generator onto the Vagus Nerve

6. Diagnostic Ultrasound Imaging Navigation System

7. Monitoring of Immune Response using Computer-aided Detection and Notification Software

8. Radiological Computer-Aided Triage and Notification Software for Computerized Tomography

9. Percutaneous Epicardial Access for Diagnostic and Therapeutic Cardiac Interventions

10. Introduction of Vancomycin-eluting Bone Void Filler into Bones

11. Insertion of a Short-term Circulatory Assist Pump

12. Division of Mitral Valve Leaflets during Transcatheter Mitral Valve Replacement

13. Angiography using Fluorescing Agent

14. Insertion of Temporary Intravascular Embolic Protection Device in Transcatheter Aortic Valve Replacement

15. Computer-Aided Detection of Cardiac Amyloidosis in Echocardiography

16. Dilation of Peripheral Vascular System with Intraluminal Device

17. Restriction and Replacement of Thoracic Aorta with Self-expanding Intraluminal Device

18. Cardiac Conduction Mapping using Computed Tomography Angiography

19. Dilation using Image-Guided Crossing and Re-Entry Catheter System

20. Inspection of Hepatobiliary System and Pancreas using a Single Use Cholangioscope

21. Inspection of Hepatobiliary System and Pancreas using a Single Use Choledochoscope

22. Transcatheter Aortic Valve Replacement using an Integrated Leaflet Clipping Mechanism

23. Replacement of Pulmonary Valve with Size Adjustable Device

24. Insertion of a Cardiac Contractility Modulation Device with Defibrillator

25. Computer-Aided Detection and Notification Software for Electrocardiograms

26. Monitoring of Cardiac Electrical Activity using Computer-aided Detection and Assessment Software

27. Administration of clemidsogene lanparvovec-sngl

28. Administration of etuvetidigene autotemcel

29. Administration of ifezuntirgene inilparvovec

30. Allogeneic Stem Cell-Derived, Insulin-producing Islet cell Therapy for Hepatic Portal Vein Infusion

31. Administration of landiolol

32. Administration of elamipretide

33. Section X

34. Addenda and Reference Key Updates

CMS will not present the Spring 2026 ICD-10-PCS procedure code topics during a public meeting. Instead, CMS will post the procedure code topic materials and solicit public comments regarding any clinical questions or coding options consistent with the approach utilized for the Fall 2025 Update and have utilized as of March 2021 for the procedure code requests that involve a new technology add-on payment (NTAP) application for the administration of a therapeutic agent. The deadline to submit comments for procedure code topics being considered for an October 1, 2026, implementation is April 17, 2026.

Members of the public should send any questions or comments related to the procedure code topics that are under consideration for an October 1, 2026 implementation to the CMS mailbox at: ICDProcedureCodeRequest@cms.hhs.gov by the respective deadline.

All procedure code topic materials and related documents will be made available on the CMS website at https://www.cms.gov/medicare/coding-billing/icd-10-codes/icd-10-coordination-maintenance-committee-materials. Additionally, CMS will post a question-and-answer document to address any clinical or coding questions that members of the public submit by the designated April 17, 2026 deadline.

CDC, NCHS will make all meeting materials and related documents available at: https://www.cdc.gov/nchs/icd/icd-10-maintenance/meetings.html. Any inquiries related to the diagnoses code topics scheduled for the March 17-18, 2026, ICD-10 C&M Committee meeting should be sent to the CDC, NCHS mailbox at: nchsicd10cm@cdc.gov.

ICD-10-CM Topics:

1. Biological Aging

2. Biomarkers for Alzheimer's Disease

3. COVID-19 Vaccination Adverse Effect

4. Detransition

5. Pneumothorax that occurs after CPR

6. Postprocedural open deep wound without disruption

7. Sepsis

8. Addenda

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2026-03627 Filed 2-23-26; 8:45 am]

BILLING CODE 4163-18-P